DEPARTMENT OF ENERGY

President's Council of Advisors on Science and Technology (PCAST)

AGENCY: Office of Science, Department of Energy.

ACTION: Notice of an open virtual meeting.

SUMMARY: This notice announces an open virtual meeting of the President's Council of Advisors on Science and Technology (PCAST). The Federal Advisory Committee Act (FACA) requires that public notice of these meetings be announced in the Federal Register.

DATES: Thursday, July 11, 2024; 12 p.m.-5 p.m. EDT.

ADDRESSES: Information for viewing the livestream of the meeting can be found on the PCAST website closer to the meeting at: www.whitehouse.gov/PCAST/meetings.

FOR FURTHER INFORMATION CONTACT: Dr. Melissa A. Edwards, Designated Federal Officer, PCAST, email: PCAST@ostp.eop.gov; telephone: (202) 881-9018.

SUPPLEMENTARY INFORMATION:

Purpose of the Board: PCAST is an advisory group of the nation's leading scientists and engineers, appointed by the President to augment the science and technology advice available to him from the White House, cabinet departments, and other Federal agencies. See the Executive Order at whitehouse.gov. PCAST is consulted on and provides analyses and recommendations concerning a wide range of issues where understanding of science, technology, and innovation may bear on the policy choices before the President. The Designated Federal Officer is Dr. Melissa A. Edwards. Information about PCAST can be found at: www.whitehouse.gov/PCAST.

Tentative Agenda: Open portion—PCAST may discuss the future of research as it relates to societal challenges. Topics such as resilience against climate change, impacts of research on society, and others, may be discussed. Additionally, PCAST may discuss and consider for approval a letter on the Federal STEM Workforce. Additional information and the meeting agenda, including any changes that arise, will be posted on the PCAST website at: www.whitehouse.gov/PCAST/meetings.

Public Participation: The meeting will be held virtually for members of the public. It is the policy of PCAST to accept written public comments no longer than 10 pages and to accommodate oral public comments whenever possible. PCAST expects that public statements presented at its meetings will not be repetitive of previously submitted oral or written statements.

The public comment period for this meeting will take place on July 11, 2024, at a time specified in the meeting agenda. This public comment period is designed only for substantive commentary on PCAST's work, not for business marketing purposes.

This notice is being published less than 15 days prior to the meeting due to scheduling difficulties and members' availability.

Oral Comments: To be considered for the public speaker list at the meeting, interested parties should register to speak at PCAST@ostp.eop.gov, no later than 12 p.m. EDT on July 3, 2024. To accommodate as many speakers as possible, the time for public comments will be limited to two (2) minutes per person, with a total public comment period of up to 10 minutes. If more speakers register than there is space available on the agenda, PCAST will select speakers on a first-come, first-served basis from those who registered. Those not able to present oral comments may file written comments with the council.

Written Comments: Although written comments are accepted continuously, written comments should be submitted to PCAST@ostp.eop.gov no later than 12 p.m. EDT on July 3, 2024, so that the comments can be made available to the PCAST members for their consideration prior to this meeting.

PCAST operates under the provisions of FACA, all public comments and/or presentations will be treated as public documents and will be made available for public inspection, including being posted on the PCAST website at: www.whitehouse.gov/PCAST/meetings.

Minutes: Minutes will be available within 45 days at: www.whitehouse.gov/PCAST/meetings.

Signing Authority: This document of the Department of Energy was signed on June 27, 2024, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 27, 2024.
Treena V. Garrett,
Federal Register Liaison Officer, U.S. Department of Energy.

[FR Doc. 2024-14547 Filed 7-1-24; 8:45 am]

BILLING CODE 6450-01-P